DEPARTMENT OF JUSTICE

Office on Violence Against Women; Notice of Meeting

AGENCY: Office on Violence Against Women, United States Department of Justice.

ACTION: Notice of Meeting.

SUMMARY: This notice sets forth the schedule and proposed agenda of the forthcoming public meeting of the Task Force on Research on Violence Against American Indian and Alaska Native Women (hereinafter “the Task Force”).

DATES: The meeting will take place on October 30 and 31, 2012 from 8:30 a.m. to 5 p.m. each day.

ADDRESSES: The meeting will take place at the Office of Justice Programs, U.S. Department of Justice, 810 7th Street NW., 3rd Floor Ballroom, Washington, DC 20531. The public is asked to pre-register by October 23, 2012 for the meeting due to security considerations and so that there is adequate space (see below for information on pre-registration).

FOR FURTHER INFORMATION CONTACT: Lorraine Edmo, Deputy Tribal Director, Office on Violence Against Women, United States Department of Justice, 145 N Street NE., Suite 10W.121, Washington, DC 20530; by telephone at: (202) 514-8804; email: Lorraine.edmo@usdoj.gov; or fax: (202) 307-3911. You may also view information about the Task Force on the Office on Violence Against Women Web site at: http://www.ovw.usdoj.gov/section904-taskforce.html.

SUPPLEMENTARY INFORMATION: Notice of this meeting is required under section 10(a)(2) of the Federal Advisory Committee Act. Title IX of the Violence Against Women Act of 2005 (VAWA 2005) requires the Attorney General to establish a Task Force to assist the National Institute of Justice (NIJ) to develop and implement a program of research on violence against American Indian and Alaska Native women, including domestic violence, dating violence, sexual assault, stalking, and murder. The program will evaluate the effectiveness of the Federal, state, and tribal response to violence against Indian women, and will propose recommendations to improve the government response. The Attorney General, acting through the Director of the Office on Violence Against Women, established the Task Force on March 31, 2008.

This meeting will include an update on NIJ's program of research, an overview of NIJ's Federal Response Study, an overview of the Center for Disease Control's 2010 General Population National Intimate Partner and Sexual Violence Surveillance Study (NISVS) and NIJ's American Indian and Alaska Native NISVS Oversample Study, an overview of NIJ's proposed sampling plan for a baseline study, and a presentation on refinement and field implementation of the Tribal Study of Public Safety and Public Health Issues Facing American Indian and Alaska Native Women as well as facilitated Task Force member discussion. In addition, the Task Force is also welcoming public oral comment at this meeting and has reserved an estimated 15 minutes on October 30 and 31 for this purpose. Members of the public wishing to address the Task Force must contact Lorraine Edmo, Deputy Tribal Director, Office on Violence Against Women, United States Department of Justice, 145 N Street NE., Suite 10W.121, Washington, DC 20530; by telephone at: (202) 514-8804; email: Lorraine.edmo@usdoj.gov; or fax: (202) 307-3911.

The meeting will take place on October 30 and 31, 2012 from 8:30 a.m. to 5 p.m. and will include lunch breaks. Time will be reserved for public comment from 11:45 a.m. to 12 p.m. on October 30 and 31. See the section below for information on reserving time for public comment.

Access: This meeting will be open to the pubic but registration on a space available basis and for security reasons is required. All members of the public who wish to attend must register in advance of the meeting by October 23, 2012 by contacting Lorraine Edmo, Deputy Tribal Director, Office on Violence Against Women, United States Department of Justice, by email: Lorraine.edmo@usdoj.gov; or fax: (202) 307-3911. All attendees will be required to sign in and be processed through Security at the Lobby Visitors Desk. Please bring photo identification and allow extra time prior to the start of the meeting.

All members of the press who wish to attend and/or record any part of the meeting must register in advance of the meeting by October 23, 2012 by contacting Lorraine Edmo as noted above. In addition to being processed through Security at the Lobby Visitors Desk, all members of the press are required to sign in at meeting registration and must present government-issued photo I.D. (such as a driver's license) as well as valid media credentials. Please allow extra time prior to the start of the meeting for registering.

The meeting site is accessible to individuals with disabilities. Individuals who require special accommodation in order to attend the meeting should notify Lorraine Edmo no later than October 23, 2012.

Written Comments: Interested parties are invited to submit written comments by October 23, 2012 to Lorraine Edmo, Deputy Tribal Director, Office on Violence Against Women, United States Department of Justice, 145 N Street NE., Suite 10W.121, Washington, DC 20530 by mail; or by email: Lorraine.edmo@usdoj.gov; or by fax: (202) 307-3911.

Public Comment: Persons interested in participating during the public comment period of the meeting are requested to reserve time on the agenda by contacting Lorraine Edmo, Deputy Tribal Director, Office on Violence Against Women, United States Department of Justice, by email: Lorraine.edmo@usdoj.gov; or fax: (202) 307-3911 by October 23, 2012. Requests must include the participant's name, organization represented, if appropriate, and a brief description of the subject of the comments. Each participant will be permitted approximately 3 to 5 minutes to present comments, depending on the number of individuals reserving time on the agenda. Participants are also encouraged to submit written copies of their comments at the meeting. Comments that are submitted to Lorraine Edmo, Deputy Tribal Director, Office on Violence Against Women, United States Department of Justice, 145 N Street NE., Suite 10W.121, Washington, DC 20530 by mail; by email: Lorraine.edmo@usdoj.gov; or fax: (202) 307-3911 before October 23, 2012 will be circulated to Task Force members prior to the meeting.

Given the expected number of individuals interested in presenting comments at the meeting, reservations should be made as soon as possible. Persons unable to obtain reservations to speak during the meeting are encouraged to submit written comments, which will be accepted at the meeting location or may be mailed to the attention of Lorraine Edmo, Deputy Tribal Director, Office on Violence Against Women, United States Department of Justice, 145 N Street NE., Suite 10W.121, Washington, DC 20530.

Dated: October 3, 2012.
Bea Hanson,
Acting Director, Office on Violence Against Women.

[FR Doc. 2012-24984 Filed 10-10-12; 8:45 am]

BILLING CODE 4410-FX-P